ENVIRONMENTAL PROTECTION AGENCY

40 CFR Part 281

[FRL-8048-2]

Indiana; Tentative Approval of State Underground Storage Tank Program

ACTION: Proposed rule; notice of tentative determination on application of State of Indiana for final approval, public hearing and public comment period.

SUMMARY: The State of Indiana has applied for approval of the underground storage tank program under Subtitle I of the Resource Conservation and Recovery Act (RCRA). The Environmental Protection Agency (EPA) has reviewed the Indiana application and has made the tentative decision that Indiana's underground storage tank program satisfies all of the requirements necessary to qualify for approval. The Indiana application for approval is available for public review and comment. A public hearing will be held if sufficient public interest is expressed.

DATES: A public hearing will be held if sufficient public interest is expressed and communicated to EPA in writing by April 11, 2006. EPA will determine by April 21, 2006, whether there is significant interest to hold the public hearing. The State of Indiana will participate in any public hearing held by EPA on this subject. Written comments on the Indiana approval application, as well as requests to present oral testimony, must be received by the close of business on April 11, 2006.

ADDRESSES: EPA has established a docket for this action under Docket ID No. EPA-R05-UST-2006-0188. All documents in the docket are listed on the http://www.regulations.gov Web site. Although listed in the index, some information is not publicly available (e.g., CBI or other information whose disclosure is restricted by statute). Certain other material, such as copyrighted material, is not placed on the Internet and will be publicly available only in hard form. Publicly available docket materials are available either electronically through http://www.regulations.gov or in hard copy as follows. You can view and copy Indiana's approval application at the following addresses:

Indiana Department of Environmental Management, File Room located on the 12th floor of the Indiana Government Center—North, 100 North Senate Avenue 46204, Telephone: (317) 234-0963, Monday through Friday, 8:30 a.m. through 4:30 p.m.; and

U.S. EPA Region 5, Underground Storage Tank Section, 77 West Jackson Blvd., Chicago, Illinois 60604. This facility is open from 8:30 a.m. to 4:30 p.m., Monday through Friday, excluding legal holidays. We recommend you telephone Sandra Siler, Enforcement Officer, at (312) 886-0429 before visiting the Region 5 office.

Submit written comments, identified by Docket ID No. EPA-R05-UST-2006-0188, by one of the following methods: http://www.regulations.gov: Follow the online instructions for submitting comments.

E-mail: tschampa.andrew@epa.gov.

Fax: (312) 353-3159.

Mail: Mr. Andrew Tschampa, Chief of Underground Storage Tank Section, U.S. EPA Region 5, DU-7J, 77 West Jackson Blvd., Chicago, Illinois 60604.

Hand Delivery: Andrew Tschampa, Chief of Underground Storage Tank Section, U.S. EPA, DU-7J, 77 W. Jackson Boulevard, Chicago, Illinois 60604. Such deliveries are only accepted during the Regional Office normal hours of operation, and special arrangements should be made for deliveries of boxed information. The Regional Office Official hours of business are Monday through Friday, 8:30 a.m. to 4:30 p.m. excluding Federal holidays.

Instructions: Direct your comments to Docket ID No. EPA-R05-UST-2006-0188. EPA's policy is that all comments received will be included in the public docket without change and may be made available online at http://regulations.gov, including any personal information provided, unless the comment includes information claimed to be Confidential Business Information (CBI) or other information whose disclosure is restricted by statute. Do not submit information that you consider to be CBI or otherwise protected through http://www.regulations.gov or e-mail.

The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Unless sufficient public interest is expressed, EPA will not hold a public hearing on the State of Indiana's application for program approval. Anyone who wishes to learn whether or not a public hearing on the State's application has been scheduled should telephone the following contacts after April 21, 2006:

Mr. Andrew Tschampa, Chief, Underground Storage Tank Section, U.S. EPA Region 5, DU-7J, 77 West Jackson Blvd., Chicago, Illinois 60604, Telephone: (312) 886-6136, or

Mr. Skip Powers, Chief, Underground Storage Tank Section, Indiana Department of Environmental Management, 100 N. Senate Avenue, Indianapolis, Indiana 46206, Telephone: (317) 308-3039.

FOR FURTHER INFORMATION CONTACT: Mr. Andrew Tschampa, Chief, Underground Storage Tank Section, U.S. EPA Region 5, DU-7J, 77 West Jackson Blvd., Chicago, Illinois, Telephone: (312) 886-6136.

SUPPLEMENTARY INFORMATION:

I. Background

Section 9004 of the Resource Conservation and Recovery Act (RCRA) authorizes EPA to approve State underground storage tank programs to operate in the State in lieu of the Federal underground storage tank (UST) program. Program approval may be granted by EPA pursuant to RCRA section 9004(b), if the Agency finds that the State program: Is “no less stringent” than the Federal program for the seven elements set forth at RCRA section 9004(a)(1) through (7); includes the notification requirements of RCRA section 9004(a)(8); and provides for adequate enforcement of compliance with UST standards of RCRA section 9004(a). Note that RCRA sections 9005 (on information-gathering) and 9006 (on Federal enforcement) by their terms apply even in states with programs approved by EPA under RCRA section 9004. Thus, the Agency retains its authority under RCRA sections 9005 and 9006, 42 U.S.C. 6991d and 6991e, and other applicable statutory and regulatory provisions to undertake inspections and enforcement actions in approved states. With respect to such an enforcement action, the Agency will rely on Federal sanctions, Federal inspection authorities, and Federal procedures rather than the State authorized analogues to these provisions.

II. Indiana

The Indiana Department of Environmental Management (IDEM) is the implementing agency for underground storage tank (UST) activities in the State.

IDEM UST/LUST program was first implemented in 1986 and IDEM recently amended its technical rules, which came into effect October 2004. Indiana adopted UST program regulations for petroleum and hazardous substance underground storage tanks. Prior to the adoption of the regulations, Indiana solicited public comments on the draft UST program regulations.

IDEM submitted their application for State Program Approval (SPA) of Indiana's UST program to U.S. EPA by letter dated April 5, 2005. EPA reviewed IDEM's application and determined it to be complete. EPA notified IDEM in a June 22, 2005, letter that the Indiana application was complete. In addition, EPA has reviewed the IDEM application and has tentatively determined that the State's UST program meets all of the requirements necessary to qualify for final approval.

EPA will not hold a public hearing on its tentative decision, unless sufficient public interest is expressed. The public may also submit written comments on EPA's tentative determination until April 11, 2006. Copies of the Indiana application are available for inspection and copying at the locations indicated in the ADDRESSES section of this document.

EPA will consider all public comments on its tentative determination received at a public hearing if scheduled, or received in writing during the public comment period. Issues raised by those comments may be the basis for a decision to deny final approval to Indiana. EPA expects to make a final decision on whether or not to approve Indiana's program within 60 days of the close of the public comment period, and will give notice of it in the Federal Register. The document will include a summary of the reasons for the final determination and a response to all significant and pertinent comments.

Included in the State's Application is an Attorney General's statement. In some instances, the State program may be broader in scope or more stringent than the Federal program. The Attorney General's statement provides an outline of the State's statutory and regulatory authority and details concerning areas where the State program is broader in scope or more stringent than the Federal program.

III. Statutory and Executive Order Reviews

This rule only applies to the Indiana Department of Environmental Management's underground storage tank program requirements pursuant to RCRA section 9004 and imposes no requirements other than those imposed by State law (see supplementary Information). Therefore, this rule complies with applicable executive orders and statutory provisions as follows.

1. Executive Order 12866: Regulatory Planning Review—The Office of Management and Budget has exempted this rule from its review under Executive Order (EO) 12866.

2. Paperwork Reduction Act—This rule does not impose an information collection burden under the Paperwork Reduction Act.

3. Regulatory Flexibility Act—After considering the economic impacts of today's rule on small entities under the Regulatory Flexibility Act, I certify that this rule will not have a significant economic impact on a substantial number of small entities.

4. Unfunded Mandates Reform Act—Because this rule codifies pre-existing requirements under State law and does not impose any additional enforceable duty beyond that required by State law, it does not contain any unfunded mandate or significantly or uniquely affect small governments, as described in the Unfunded Mandates Reform Act.

5. Executive Order 13132: Federalism—EO 13132 does not apply to this rule because it will not have federalism implications (i.e., substantial direct effects on the States, on the relationship between the national government and the States, or on the distribution of power and responsibilities among the various levels of government).

6. Executive Order 13175: Consultation and Coordination with Indian Tribal Governments—EO 13175 does not apply to this rule because it will not have tribal implications (i.e., substantial direct effects on one or more Indian tribes, on the relationship between the Federal Government and Indian tribes, or on the distribution of power and responsibilities between the Federal Government and Indian tribes).

7. Executive Order 13045: Protection of Children from Environmental Health & Safety Risks—This rule is not subject to EO 13045 because it is not economically significant and it is not based on health or safety risks.

8. Executive Order 13211: Actions that Significantly Affect Energy Supply, Distribution, or Use—This rule is not subject to EO 13211 because it is not a significant regulatory action as defined in EO 12866.

9. National Technology Transfer and Advancement Act—Section 12(d) of the National Technology Transfer and Advancement Act of 1995 (“NTTAA”), Public Law 104-113, 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This action does not involve technical standards. Therefore, EPA is not considering the use of any voluntary consensus standards.

List of Subjects in 40 CFR Part 281

Environmental protection, Administrative practice and procedure, Hazardous materials, State program approval, Underground storage tanks.

Authority: This notice is issued under the authority of Sections 2002(a), 7004(b), and 9004 of the Solid Waste Disposal Act as amended, 42 U.S.C. 6912(a), 6974(b), and 6991(c).

Dated: March 9, 2006.
Bharat Mathur,
Acting Regional Administrator, Region 5.

[FR Doc. E6-4145 Filed 3-21-06; 8:45 am]

BILLING CODE 6560-50-P